DEPARTMENT OF EDUCATION

[Docket No.: ED-2018-ICCD-0087]

Agency Information Collection Activities; Comment Request; A Study of Reliability and Consequential Validity of a Mathematics Diagnostic Assessment System in Georgia

AGENCY: Institute of Education Sciences (IES), Department of Education (ED).

ACTION: Notice.

SUMMARY: In accordance with the Paperwork Reduction Act of 1995, ED is proposing a new information collection.

DATES: Interested persons are invited to submit comments on or before October 22, 2018.

ADDRESSES: To access and review all the documents related to the information collection listed in this notice, please use http://www.regulations.gov by searching the Docket ID number ED-2018-ICCD-0087. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Felicia Sanders, 202-245-6264.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: A study of reliability and consequential validity of a mathematics diagnostic assessment system in Georgia.

OMB Control Number: 1850—NEW.

Type of Review: A new information collection.

Respondents/Affected Public: Individuals or Households.

Total Estimated Number of Annual Responses: 44.

Total Estimated Number of Annual Burden Hours: 606.

Abstract: Several school districts in Georgia (including Forsyth and Jefferson Counties) currently use the Individual Knowledge Assessment of Number (IKAN; New Zealand Ministry of Education, 2011) and the Global Strategy Stage (GloSS; New Zealand Ministry of Education, 2012) as part of a diagnostic assessment system within their multi-tiered systems of support. The IKAN and GloSS assessments were designed for use in Grades K-8 (GaDOE, 2015).

IKAN provides information on students' number knowledge (that is, magnitude comparisons, knowledge of base 10 system and meaning of decimals and fractions), and the GloSS provides information on strategies students use when solving mathematical problems. When used together, the IKAN and GloSS assessments furnish teachers with information on how students solve mathematics problems and students' understanding of whole and rational number concepts. Teachers can then use the information from the assessments to tailor their instruction to students' levels of understanding and address problems that underlie lack of success with grade-level curriculum.

The Georgia Department of Education (GaDOE) has received positive feedback through testimonials from district-level personnel and math coaches supporting the use of IKAN/GloSS. Yet, very limited psychometric data exists to support the use of these measures. GaDOE has not conducted reliability or validity studies using its student population. While many studies have been conducted in New Zealand by the Ministry of Education, participating Georgia school districts and the GaDOE are interested in psychometric data using teachers and students in their state in the context of their state system of standards, assessments, and accountability. Thus, through the Improving Mathematics Research Alliance, the GaDOE requested REL Southeast conduct a study to determine the reliability and validity of the IKAN/GloSS diagnostic assessments.

The three research questions guiding the project relate to the inter-assessor reliability of the GloSS and IKAN assessments when administered by two assessors within a one-week period and the consequential validity of using IKAN and GloSS diagnostic assessments (that is, teachers' perception of their instructional utility for providing intervention).

Student data from the IKAN and GloSS assessments administered by teachers and mathematics coaches will be used to answer the two research questions related to the inter-assessor reliability studies.

Dated: August 17, 2018.
Stephanie Valentine,
Acting Director, Information Collection Clearance Division, Office of the Chief Privacy Officer, Office of Management.

[FR Doc. 2018-18102 Filed 8-21-18; 8:45 am]

BILLING CODE 4000-01-P